NUCLEAR REGULATORY COMMISSION

[Docket No. 40-8943; ASLBP No. 08-867-02-OLA-BD01]

Atomic Safety and Licensing Board; Before Administrative Judges: Michael M. Gibson, Chair; Dr. Richard E. Wardwell; Brian K. Hajek; Alan S. Rosenthal (Special Assistant to the Board); In the Matter of Crow Butte Resources, INC.; (License Renewal for the In Situ Leach Facility, Crawford, Nebraska); Notice (Regarding Weapons at Atomic Safety and Licensing Board Proceeding)

July 14, 2015.

Notice is hereby given that the rules and policies regarding the possession of weapons in United States Courthouses and United States Federal Buildings in the State of Nebraska shall apply to all proceedings conducted in Nebraska by the Atomic Safety and Licensing Board of the U.S. Nuclear Regulatory Commission. This includes the evidentiary hearing in the above captioned proceeding scheduled to begin on Monday, August 24, 2015, at the Crawford Community Building in Crawford, Nebraska.¹

¹ Licensing Board Notice of Hearing (Notice of Evidentiary Hearing and Opportunity to Provide Written Limited Appearance Statements) (July 13, 2015) (unpublished).

Prohibited items, including weapons, will not be permitted. Accordingly, no person other than federal law enforcement personnel or law enforcement personnel from the Dawes County Sheriff's Department, or any other authorized Nebraska state or local law enforcement organization, while performing official duties, shall wear or otherwise carry a firearm, edged weapon, impact weapon, electronic control device, chemical weapon, ammunition, or other dangerous weapon.

This notice does not apply to state or local law enforcement officers responding to a call for assistance from within the Crawford Community Building.

It is so ordered.

For The Atomic Safety And Licensing Board.
Dated: July 14, 2015 in Rockville, Maryland.
Michael M. Gibson,
Chair, Administrative Judge.

[FR Doc. 2015-17848 Filed 7-20-15; 8:45 am]

BILLING CODE 7590-01-P